DEPARTMENT OF HOMELAND SECURITY

Federal Emergency Management Agency

[Docket ID FEMA-2014-0029]

Public Assistance Policy on Insurance, FP 206-086-1

AGENCY: Federal Emergency Management Agency, DHS.

ACTION: Notice.

SUMMARY: This document provides notice of the availability of the final policy Public Assistance Policy on Insurance. The Federal Emergency Management Agency (FEMA) published a notice of availability and request for comment for the proposed policy on October 8, 2014 at 79 FR 60861.

DATES: This policy is effective June 29, 2015.

ADDRESSES: The final policy is available online at http://www.regulations.gov and on FEMA's Web site at http://www.fema.gov. The proposed and final policy, all related Federal Register notices, and all public comments received during the comment period are available at http://regulations.gov under Docket ID FEMA-2014-0029. You may also view a hard copy of the final policy at the Office of Chief Counsel, FEMA, 8NE, 500 C St. SW., Washington, DC 20472.

FOR FURTHER INFORMATION CONTACT: Deana Platt, Federal Emergency Management Agency, 500 C Street SW., Washington, DC 20472-3160, 202-646-3642.

SUPPLEMENTARY INFORMATION: This policy addresses insurance under FEMA's Public Assistance program. FEMA has revised the policy based on public comments received, and is now issuing a final policy. The policy does not have the force or effect of law.

Authority: 42 U.S.C. 4012a, 4106, 5154, 5155, 5172, 5189, and 5189f; 44 CFR 206.250, 206.251, 206.252, 206.253.

Dated: June 23, 2015.
W. Craig Fugate,
Administrator, Federal Emergency Management Agency.

[FR Doc. 2015-15835 Filed 6-26-15; 8:45 am]

BILLING CODE 9111-23-P